DEPARTMENT OF AGRICULTURE

Forest Service

North Belts Travel Plan/Magpie-Confederate Vegetation Restoration Project; This project Will Henceforth be Entitled the North Belts Travel Plan Project; Helena National Forest, Broadwater, Lewis & Clark and Broadwater Counties, MT

AGENCIES: Forest Service, USDA; Bureau of Land Management, USDI.

ACTION: Notice; intent to prepare Supplement to Environmental Impact Statement.

SUMMARY: The NOI to prepare an Environmental Impact Statement for this project was published in the February 25, 1998 issue of the Federal Register. A Draft EIS was released to the public in March 1999. In July and August of 2000, an extensive wildfire called the Cave Gulch Fire burned a high percentage of the project area being considered for vegetation treatments (The Magpie-Confederate Vegetation Restoration portion of the original project). Because of this changed condition, the Forest Service is withdrawing all vegetation management proposals from the project including treatment of noxious weeds, renaming the project, and proceeding with the travel planning portion of the project. The Forest Service feels this is the appropriate approach with this project in that it retains a considerable amount of public input received in conjunction with previous scoping efforts. The BLM has considered only travel management throughout the course of the project. The agencies expect to release a Draft Supplement EIS in June, 2001. A 45 day comment period will be provided, and all comments will be used to develop a Final EIS.

ADDRESSES: The responsible official is Thomas J. Clifford, Forest Supervisor, Helena National Forest, Supervisor's Office, 2880 Skyway Drive, Helena, MT. 59602. Phone: (406) 449-5201.

FOR FURTHER INFORMATION CONTACT: Lois Olsen, Interdisciplinary Team Leader, Helena National Forest, Supervisor's Office, 2880 Skyway Drive, Helena, MT. 59602. Phone: (406) 449-5201, extension 251.

Dated: April 24, 2001.
Thomas J. Clifford,
Forest Supervisor, Helena National Forest.

[FR Doc. 01-11446 Filed 5-7-01; 8:45 am]

BILLING CODE 3410-11-M